DEPARTMENT OF JUSTICE

Notice of Lodging of Proposed First Amendment to Consent Decree Under the Clean Air Act

On January 14, 2015, the Department of Justice lodged a proposed first amendment to a consent decree with the United States District Court for the Southern District of Ohio in the lawsuit entitled United States, et al. v. INEOS ABS (USA) Corporation, et al., Civil Action No. 1:09-CV-00545.

Under the original 2010 consent decree, INEOS ABS (USA) Corporation (“INEOS”) agreed to undertake numerous measures to come into compliance with various environmental statutes and regulations at its facility in Addyston, Ohio, including certain measures designed to control hazardous air pollutant emissions from the facility's flare and volatile organic compound emissions from equipment leaks. Since the entry of the original consent decree, issues involving the implementation of and compliance with certain consent decree provisions have arisen. Under the proposed First Amendment, INEOS will comply with a final limit of the net heating value in its flare gas that will ensure 99% control efficiency at the flare, which is the control efficiency requirement in the facility's permit. INEOS also will pay a penalty of $240,000 for alleged violations of certain leak detection and repair (“LDAR”) provisions of the original decree (which are based on regulations promulgated under the Clean Air Act, 42 U.S.C. §§ 7401, et seq.).

The publication of this notice opens a period of public comment on the first amendment. Comments should be addressed to the Assistant Attorney General, Environment and Natural Resources Division, and should refer to United States, et al. v. INEOS ABS (USA) Corporation, et al., D.J. Ref. No. 90-5-2-1-09264. All comments must be submitted no later than thirty (30) days after the publication date of this notice. Comments may be submitted either by email or by mail:

To submit comments: | Send them to:
By e-mail | pubcomment-ees.enrd@usdoj.gov
By mail | Assistant Attorney General, U.S. DOJ—ENRD, P.O. Box 7611, Washington, DC 20044-7611.

During the public comment period, the first amendment may be examined and downloaded at this Department of Justice Web site: http://www.usdoj.gov/enrd/Consent_Decrees.html. We will provide a paper copy of the first amendment upon written request and payment of reproduction costs. Please mail your request and payment to: Consent Decree Library, U.S. DOJ—ENRD, P.O. Box 7611, Washington, DC 20044-7611.

Please enclose a check in the amount of $ 10.25 (25 cents per page reproduction cost) payable to the United States Treasury.

Randall M. Stone,
Acting Assistant Section Chief, Environmental Enforcement Section, Environment and Natural Resources Division.

[FR Doc. 2015-00886 Filed 1-20-15; 8:45 am]

BILLING CODE 4410-15-P